DEPARTMENT OF EDUCATION

National Assessment Governing Board; Meeting

AGENCY: National Assessment Governing Board; Education.

ACTION: Notice of open meeting, and partially closed meeting.

SUMMARY: This notice sets forth the schedule and proposed agenda of a forthcoming meeting of the National Assessment Governing Board. This notice also describes the functions of the Board. Notice of this meeting is required under section 10(a)(2) of the Federal Advisory Committee Act. This document is intended to notify the general public of their opportunity to attend. Individuals who will need accommodations for a disability in order to attend the meeting (i.e. interpreting services, assistive listening devices, materials in alternative format) should notify Munira Mwalimu at 202-357-6938 or at Munira.Mwalimu@ed.gov not later than February 8, 2002. We will attempt to meet requests after this date, but cannot guarantee availability of the requested accommodation. The meeting site is accessible to individuals with disabilities.

Date: March 1-March 2, 2002.

Time: March 1—Full Board 8:30 a.m.-10:15 a.m.; Assessment Development Committee 10:15 a.m.-12:15 p.m.; Committee on Standards, Design and Methodology, 10:15 a.m.-12:15 p.m.; Reporting and Dissemination Committee, 10:15 a.m.-12:15 p.m.; Full Board—Closed Meeting, 12:30 p.m.-1:45 p.m.; Open Meeting 1:45 p.m.-4:30p.m.; March 2—Nominations Committee—8 a.m.-8:45 a.m.; Full Board, 9:00 a.m.-12 p.m.

Location: The Ritz Carlton New Orleans, 921 Canal Street, New Orleans, LA 70112.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994 (Title IV of the Improving America's Schools Act of 1994, as amended by the No Child Left Behind Act of 2002) (Public Law 103-382).

The Board is established to formulate policy guidelines for the National Assessment of Educational Progress (NAEP). The Board's responsibilities include selecting subject areas to be assessed, developing assessment objectives, devleoping appropriate student achievement levels for each grade and subject tested, developing guidelines for reporting and disseminating results, and developing standards and procedures for interstate and national comparisons.

On March 1, 2002 the full Board will convene in open session from 8:30 a.m.-10:15 a.m. The Board will approve the agenda after which Secretary Rod Paige will administer the oath of office to a new Board member and address the Board. Welcome remarks and comments will then be made by Cecil Picard, the Louisiana Superintendent of Education, followed by an update on the NAEP Program by Deputy Commissioner of the National Center for Education Statistics, Gary Phillips. From 10:15 a.m. to 12:15 p.m., the Board's standing committees—the Assessment Development Committee, the Committee on Standards, Design, and Methodology, and the Reporting and Dissemination Committee will meet in open session.

The full Board will recovene in closed session on March 1, 2002 from 12:30 p.m.-1:45 p.m. to receive results of the NAEP 2001 U.S. History Assessment. This meeting must be closed because the Secretary of Education has not officially released results from the NAEP U.S. History Assessment to the public and premature disclosure of the information presented for review would be likely to significantly frustrate implementation of a proposed agency action if conducted in open session. Such matters are protected by exemption 9(B) of section 552b(c) of Title 5 U.S.C.

The full Board will reconvene in open session on March 1, from 1:45 p.m. to 4:30 p.m. to discuss implications of the No Child Left Behind Act of 2002 for NAEP; to hear a final report and take action on recommendations of the Ad Hoc Committee on Confirming Test Results; and to hear a final report and take action on the NAEP Reading Framework. The Board will also receive a briefing on the 2005 NAEP Economics Framework project, upon which the March 1, 2002 session of the Board meeting will adjourn.

On March 2, 2002, the Nominations Committee will meet from 8 a.m. to 8:45 a.m. The full Board will meet in open session from 9 a.m. to 12 a.m. The Board will receive and view reading results of the Program for International Student Assessment (PISA). The Board will then hear and take action on Committee reports from 9:30 a.m. to 12 p.m., whereupon the meeting will adjourn.

Summaries of the activities of the closed sessions and related matters, which are informative to the public and consistent with the policy of section 5 U.S.C. 552b(c), will be available to the public within 14 days of the meeting. Records are kept of all Board proceedings and are available for public inspection at the U.S. Department of Education, National Assessment Governing Board, Suite #825, 800 North Capitol Street, NW., Washington, DC from 8:30 a.m. to 5 p.m. Eastern Standard Time

Dated: January 23, 2002.
Roy Truby,
Executive Director, National Assessment Governing Board.

[FR Doc. 02-1985 Filed 1-25-02; 8:45 am]

BILLING CODE 4000-01-M